DEPARTMENT OF TRANSPORTATION

Federal Aviation Administration

14 CFR Part 39

[Docket No. FAA-2010-1305; Directorate Identifier 2010-NM-074-AD]

RIN 2120-AA64

Airworthiness Directives; Lockheed Martin Corporation/Lockheed Martin Aeronautics Company Model 382, 382B, 382E, 382F, and 382G Airplanes

AGENCY: Federal Aviation Administration (FAA), Department of Transportation (DOT).

ACTION: Notice of proposed rulemaking (NPRM).

SUMMARY: The FAA proposes to supersede an existing airworthiness directive (AD) that applies to all Model 382, 382B, 382E, 382F, and 382G airplanes. The existing AD currently requires revising the FAA-approved maintenance program by incorporating new airworthiness limitations for fuel tank systems to satisfy Special Federal Aviation Regulation No. 88 requirements. That AD also requires the accomplishment of certain fuel system modifications, the initial inspections of certain repetitive fuel system limitations to phase in those inspections, and repair if necessary. This proposed AD would correct certain part number references, add an additional inspection area, and for certain airplanes, require certain actions to be re-accomplished according to revised service information. This proposed AD results from a report of incorrect accomplishment information in the service information cited by the existing AD. We are proposing this AD to prevent the potential for ignition sources inside fuel tanks caused by latent failures, alterations, repairs, or maintenance actions, which, in combination with flammable fuel vapors, could result in a fuel tank explosion and consequent loss of the airplane.

DATES: We must receive comments on this proposed AD by February 22, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Lockheed Martin Corporation/Lockheed Martin Aeronautics Company, Airworthiness Office, Dept. 6A0M, Zone 0252, Column P-58, 86 S. Cobb Drive, Marietta, Georgia 30063; telephone 770-494-5444; fax 770-494-5445; e-mail ams.portal@lmco.com; Internet http://www.lockheedmartin.com/ams/tools/TechPubs.html. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Neil Duggan, Aerospace Engineer, Propulsion and Services Branch, ACE-118A, FAA, Atlanta Aircraft Certification Office, 1701 Columbia Avenue, College Park, GA 30337; telephone (404) 474-5576; fax (404) 474-5606.

SUPPLEMENTARY INFORMATION:

Comments Invited

We invite you to send any written relevant data, views, or arguments about this proposed AD. Send your comments to an address listed under the ADDRESSES section. Include “Docket No. FAA-2010-1305; Directorate Identifier 2010-NM-074-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The FAA has examined the underlying safety issues involved in fuel tank explosions on several large transport airplanes, including the adequacy of existing regulations, the service history of airplanes subject to those regulations, and existing maintenance practices for fuel tank systems. As a result of those findings, we issued a regulation titled “Transport Airplane Fuel Tank System Design Review, Flammability Reduction and Maintenance and Inspection Requirements” (66 FR 23086, May 7, 2001). In addition to new airworthiness standards for transport airplanes and new maintenance requirements, this rule included Special Federal Aviation Regulation No. 88 (“SFAR 88,” Amendment 21-78, and subsequent Amendments 21-82 and 21-83).

Among other actions, SFAR 88 requires certain type design (i.e., type certificate (TC) and supplemental type certificate (STC)) holders to substantiate that their fuel tank systems can prevent ignition sources in the fuel tanks. This requirement applies to type design holders for large turbine-powered transport airplanes and for subsequent modifications to those airplanes. It requires them to perform design reviews and to develop design changes and maintenance procedures if their designs do not meet the new fuel tank safety standards. As explained in the preamble to the rule, we intended to adopt airworthiness directives to mandate any changes found necessary to address unsafe conditions identified as a result of these reviews.

In evaluating these design reviews, we have established four criteria intended to define the unsafe conditions associated with fuel tank systems that require corrective actions. The percentage of operating time during which fuel tanks are exposed to flammable conditions is one of these criteria. The other three criteria address the failure types under evaluation: single failures, single failures in combination with a latent condition(s), and in-service failure experience. For all four criteria, the evaluations included consideration of previous actions taken that may mitigate the need for further action.

We have determined that the actions identified in this AD are necessary to reduce the potential of ignition sources inside fuel tanks, which, in combination with flammable fuel vapors, could result in fuel tank explosions and consequent loss of the airplane.

On September 11, 2008, we issued AD 2008-20-01, amendment 39-15680 (73 FR 56464, September 29, 2008), for all Model 382, 382B, 382E, 382F, and 382G airplanes. That AD requires revising the maintenance program by incorporating new airworthiness limitations for fuel tank systems to satisfy Special Federal Aviation Regulation No. 88 requirements. That AD also requires the accomplishment of certain fuel system modifications, the initial inspections of certain repetitive fuel system limitations to phase in those inspections, and repair if necessary. That AD resulted from a design review of the fuel tank systems. We issued that AD to prevent the potential for ignition sources inside fuel tanks caused by latent failures, alterations, repairs, or maintenance actions, which, in combination with flammable fuel vapors, could result in a fuel tank explosion and consequent loss of the airplane.

Actions Since Existing AD Was Issued

Since we issued AD 2008-20-01, we received information from the manufacturer that Lockheed Service Bulletin 382-28-21, Revision 2, dated November 20, 2006 (referenced in AD 2008-20-01 as a source of additional guidance), contained an error in referencing certain part numbers for tube, fuel tank, and bulkhead joint jumpers. The part numbers as referenced in Revision 2 of that service bulletin do not exist. The manufacturer has published Lockheed Service Bulletin 382-28-21, Revision 4, dated January 6, 2010, to provide the correct part number references. We have revised Table 1 of this AD accordingly.

We have also received information from the manufacturer that the last two bulleted steps of paragraphs 2.C.(2)(b)5 and 2.C.(2)(c)3 of Lockheed Service Bulletin 382-28-22, Revision 3, dated March 28, 2008, contain an error. Those steps specify that the GFI FAILURE and GROUND FAULT DETECTED lights illuminate for 2 seconds. An alternate means of compliance (AMOC) for AD 2008-20-01 was issued to disregard those steps. The manufacturer has advised that it is planning to publish a revision to Lockheed Service Bulletin 382-28-22, Revision 3, dated March 28, 2008. However, we have determined that delaying this action until after the release of this planned revision is not warranted, since sufficient notice of the error in Lockheed Service Bulletin 382-28-22, Revision 3, dated March 28, 2008, exists.

Relevant Service Information

We have also reviewed Lockheed Service Bulletin 382-28-19, Revision 4, dated September 18, 2008. That service bulletin describes procedures that are similar to those in Lockheed Service Bulletin 382-28-19, Revision 3, dated November 30, 2006 (which was referenced in AD 2008-20-01 as a source of additional guidance). However, Revision 4 of Lockheed Service Bulletin 382-28-19 specifies an additional inspection area (fuel probes) for the dry bay and other areas and revises actions. Revision 4 of that service bulletin also specifies that for airplanes on which the actions described in Revision 3 of Lockheed Service Bulletin 382-28-19 are done, it is necessary to do the additional action of inspecting the fuel probes when doing the zonal inspection of the dry bay areas and other areas and re-accomplish certain inspections of certain fuel system electrical wires (such as ensuring that generator wire bundles are separated from fuel tank boundaries, certain wire bundles are spot tied with certain lacing braid, and that the fuel quantity indication system (FQIS) wiring in certain locations is routed separately from AC power wires and is shielded using the correct standard).

We have also reviewed Lockheed Service Bulletin 382-28-20, Revision 11, dated April 20, 2010. That service bulletin describes procedures that are similar to Lockheed Service Bulletin 382-28-20, Revision 5, dated June 19, 2008 (which was referenced as a source of guidance in AD 2008-20-01), for installing ground fault interrupters (GFIs) and flame arrestors for protection of the fuel system.

FAA's Determination and Requirements of the Proposed AD

We have evaluated all pertinent information and identified an unsafe condition that is likely to develop on other airplanes of the same type design. For this reason, we are proposing this AD, which would supersede AD 2008-20-01 and would retain the requirements of the existing AD. This proposed AD would also require certain actions to be re-accomplished according to revised service information described previously, except as discussed under “Difference Between the Proposed AD and the Service Information.”

Difference Between the Proposed AD and the Service Information

Although Lockheed Service Bulletin 382-28-19, Revision 4, dated September 18, 2008, describes procedures for notifying Lockheed of any discrepancies found during inspection, this proposed AD would not require that action.

Explanation of Change to This AD

We have removed the “Service Bulletin Reference” paragraph from this NPRM. That paragraph was identified as paragraph (f) in AD 2008-20-01. Instead, we have provided the full service bulletin citations throughout this NPRM.

Explanation of Change to Applicability

We have revised the NPRM to identify the legal name of the manufacturer as published in the most recent type certificate data sheet for the affected airplane models.

Costs of Compliance

There are about 62 airplanes of the affected design in the worldwide fleet. The following table provides the estimated costs for U.S. operators to comply with this proposed AD. The average labor rate per hour is $85. The costs of the new requirements of this proposed AD are as follows:

Estimated Costs for New Actions
Action | Work hours | Parts | Cost per airplane | Number of U.S.-registered airplanes | Fleet cost
Inspection of fuel probes | 24 | None | $2,040, per inspection cycle | 24 | $48,960, per inspection cycle.
Actions necessary for airplanes on which Lockheed Service Bulletin 382-28-19, Revision 3, dated November 30, 2006, has been done | 24 | None | $2,040 | 24 | $48,960.

The current costs for this proposed AD are repeated for the convenience of affected operators, as follows:

Estimated Costs for Actions Required by AD 2008-20-01
Action | Work hours | Parts | Cost per product | Number of U.S.-registered airplanes | Fleet cost
Maintenance program revision | 1 | None | $85 | 24 | $2,040
Installation of new, improved fuel dump masts | 12 | $10,288 | 11,308 | 24 | 271,392
Dry bay zonal inspection, inspection and repair of static ground terminals, marking the wiring for the fuel quantity indicating system, initial inspection of lightning and static bonding jumpers | 952 | None | 80,920 | 24 | 1,942,080
Installation of GFIs and flame arrestors | 120 | 115,000 | 125,200 | 24 | 3,004,800
Initial inspection of GFIs and flame arrestors | 8 | None | 680 | 24 | 16,320
Installation of lightning bonding jumpers | 910 | 10,000 | 87,350 | 24 | 2,096,400
Sealant application | 320 | None | 27,200 | 24 | 652,800

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-15680 (73 FR 56464, September 29, 2008) and adding the following new AD:

Lockheed Martin Corporation/Lockheed Martin Aeronautics Company: Docket No. FAA-2010-1305; Directorate Identifier 2010-NM-074-AD.

Comments Due Date

(a) The FAA must receive comments on this AD action by February 22, 2011.

Affected ADs

(b) This AD supersedes AD 2008-20-01, Amendment 39-15680.

Applicability

(c) This AD applies to all Lockheed Martin Corporation/Lockheed Martin Aeronautics Company Model 382, 382B, 382E, 382F, and 382G airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (o) of this AD. The request should include a description of changes to the required inspections that will ensure the continued operational safety of the airplane.

Subject

(d) Air Transport Association (ATA) of America Code 28: Fuel.

Unsafe Condition

(e) This AD results from a design review of the fuel tank systems. The Federal Aviation Administration is issuing this AD to prevent the potential for ignition sources inside fuel tanks caused by latent failures, alterations, repairs, or maintenance actions, which, in combination with flammable fuel vapors, could result in a fuel tank explosion and consequent loss of the airplane.

Compliance

(f) You are responsible for having the actions required by this AD performed within the compliance times specified, unless the actions have already been done.

Restatement of Requirements of AD 2008-20-01, With New Service Information

Maintenance Program Revision

(g) Before December 16, 2008, revise the maintenance program to incorporate the fuel system limitations (FSLs) and the critical design configuration control limitations (CDCCLs) specified in the Accomplishment Instructions of the Lockheed Service Bulletin 382-28-22, Revision 3, dated March 28, 2008; except as provided by paragraphs (g)(1), (g)(2), and (g)(3) of this AD, and except that the modifications and initial inspections specified in Table 1 of this AD must be done at the compliance time specified in paragraph (h) of this AD.

(1) For the CDCCLs specified in paragraphs 2.C.(3)(e), 2.C.(3)(h), 2.C.(4)(a), 2.C.(5)(c), 2.C.(7)(h), and 2.C.(8) of the Accomplishment Instructions of Lockheed Service Bulletin 382-28-22, Revision 3, dated March 28, 2008, do the applicable actions in accordance with the Accomplishment Instructions of Lockheed Service Bulletin 382-28-19, Revision 3, dated November 30, 2006; or Revision 4, dated September 18, 2008. After the effective date of this AD, use only Revision 4.

(2) Where paragraph 2.C.(1)(c) of the Accomplishment Instructions of Lockheed Service Bulletin 382-28-22, Revision 3, dated March 28, 2008, specifies to change the maintenance program to indicate that repetitive inspections of the lightning and static bonding jumpers must be done in accordance with Lockheed Service Bulletin 382-28-21, instead do the repetitive inspections in accordance with Lockheed Service Bulletin 382-28-19, Revision 3, dated November 30, 2006; or Revision 4, dated September 18, 2008. After the effective date of this AD, use only Revision 4.

(3) Where Lockheed Service Bulletin 382-28-22, Revision 3, dated March 28, 2008, specifies to inspect, this AD requires doing a general visual inspection.

Note 2: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Fuel System Modifications, Initial Inspections, and Repair If Necessary

(h) Within 36 months after November 3, 2008 (the effective date of AD 2008-20-01), do the applicable actions specified in Table 1 of this AD, and repair any discrepancy before further flight, in accordance with the Accomplishment Instructions of Lockheed Service Bulletin 382-28-22, Revision 3, dated March 28, 2008.

Table 1—Modifications and Initial Inspections
Action | Additional source of guidance for accomplishing the action
For airplanes having any serial number prior to 4962: Install new, improved fuel dump masts in accordance with paragraph 2.C.(1)(d) of the Accomplishment Instructions of Lockheed Service Bulletin 382-28-22, Revision 3, dated March 28, 2008. | Lockheed Service Bulletin 382-28-9, dated May 13, 1983.
Mark the fuel quantity indicating system (FQIS) wires in accordance with paragraphs 2.C.(1)(a)2, 2.C.(4)(b), and 2.C.(4)(c) of the Accomplishment Instructions of Lockheed Service Bulletin 382-28-22, Revision 3, dated March 28, 2008. | Lockheed Service Bulletin 382-28-19, Revision 4, dated September 18, 2008.
Do the dry bay zonal inspection and inspect the static ground terminals of the fuel system plumbing in accordance with paragraph 2.C.(1)(a) of the Accomplishment Instructions of Lockheed Service Bulletin 382-28-22, Revision 3, dated March 28, 2008. | Lockheed Service Bulletin 382-28-19, Revision 4, dated September 18, 2008.
Install ground fault interrupters (GFIs) and flame arrestors for protection of the fuel system in accordance with paragraphs 2.C.(1)(b) and 2.C.(7)(c) of the Accomplishment Instructions of Lockheed Service Bulletin 382-28-22, Revision 3, dated March 28, 2008. | Lockheed Service Bulletin 382-28-20, Revision 11, dated April 20, 2010.
Inspect the GFIs for protection of the fuel system in accordance with paragraph 2.C.(1)(b)1 of the Accomplishment Instructions of Lockheed Service Bulletin 382-28-22, Revision 3, dated March 28, 2008. | Paragraph 2.C.(2) of the Accomplishment Instructions of Lockheed Service Bulletin 382-28-22, Revision 3, dated March 28, 2008.
Install the lightning bonding jumpers (straps) in accordance with paragraphs 2.C.(1)(c) and 2.C.(6)(a) of the Accomplishment Instructions of Lockheed Service Bulletin 382-28-22, Revision 3, dated March 28, 2008. | Lockheed Service Bulletin 382-28-21, Revision 4, dated January 6, 2010.
Inspect the lightning and static bonding jumpers (straps) in accordance with paragraphs 2.C.(1)(c) of the Accomplishment Instructions of Lockheed Service Bulletin 382-28-22, Revision 3, dated March 28, 2008. | Lockheed Service Bulletin 382-28-19, Revision 4, dated September 18, 2008.
Apply a certain sealant to the interior of the main wing fuel tanks; and apply a certain sealant to all external fuel tank nose caps, mid sections, and tail sections; as applicable; in accordance with paragraphs 2.C.(1)(e)1, 2.C.(1)(e)3, and 2.C.(7)(i)1 of the Accomplishment Instructions of Lockheed Service Bulletin 382-28-22, Revision 3, dated March 28, 2008. | Lockheed Service Bulletin 382-28-24, Revision 1, dated November 5, 2007, including the Errata Notice, dated January 7, 2008.

No Alternative Inspections, Inspection Intervals, or CDCCLs

(i) After accomplishing the actions specified in paragraphs (g) and (h) of this AD, no alternative inspections, inspection intervals, or CDCCLs may be used unless the inspections, intervals, or CDCCLs are approved as an alternative method of compliance in accordance with the procedures specified in paragraph (k) of this AD.

No Reporting Requirement

(j) Although Lockheed Service Bulletin 382-28-19, Revision 3, dated November 30, 2006, specifies to notify Lockheed of any discrepancies found during inspection, this AD does not require that action.

New Requirements of This AD

Incorrect Steps in a Service Bulletin

(k) Where the last two bulleted steps of paragraphs 2.C.(2)(b)5 and 2.C.(2)(c)3 of Lockheed Service Bulletin 382-28-22, Revision 3, dated March 28, 2008, specify that the GFI FAILURE and GROUND FAULT DETECTED lights illuminate for 2 seconds, this AD does not require those steps.

Additional Inspection Area

(l) For airplanes on which Lockheed Service Bulletin 382-28-19, Revision 3, dated November 30, 2006, has not been done: Where Table 1 of this AD specifies to do the dry bay zonal inspection, do an inspection of the fuel probes as part of the dry bay zonal inspections, in accordance with the service information specified in paragraph (h) of this AD for the dry bay zonal inspections. Do the inspections at the time specified in paragraph (h) of this AD, or within 9 months after the effective date of this AD, whichever occurs later.

Actions for Airplanes on Which a Previous Issue of Lockheed Service Bulletin 382-28-19 Was Done

(m) For airplanes on which any action was done in accordance with Lockheed Service Bulletin 382-28-19, Revision 3, dated November 30, 2006: Within the compliance time specified in paragraph (h) of this AD, or within 9 months after the effective date of this AD, whichever occurs later, do the actions required by paragraphs (m)(1) through (m)(4) of this AD and repair any discrepancy before further flight, in accordance with Accomplishment Instructions of Lockheed Service Bulletin 382-28-19, Revision 4, dated September 18, 2008. Although Lockheed Service Bulletin 382-28-19, Revision 4, dated September 18, 2008, specifies to notify Lockheed of any discrepancies found during inspection, this AD does not require that action.

(1) Inspect the fuel probes as part of the zonal inspections of the dry bay areas and other areas.

(2) Inspect generator feeder and control wire bundles for correct separation from other wires in the wing leading edge and fuselage areas, and for correct separation from fuel tank boundaries in the wing leading edge area.

(3) Inspect for correct spot-tying of certain wire bundles that are within 2 to 12 inches of hot equipment or wires with flame-resistant lacing braid, or, for wiring in powerplant areas, with fiberglass braid.

(4) Inspect for use of the correct shielding specification and separation of the FQIS wiring in certain locations from AC power wires.

Credit for Actions Accomplished in Accordance With Previous Service Information

(n) Actions done before the effective date of this AD in accordance with Lockheed Service Bulletin 382-28-20, Revision 8, dated October 13, 2009; Revision 9, dated December 14, 2009; or Revision 10, dated March 18, 2010; is acceptable for compliance with the requirements of paragraph (h) of this AD.

Alternative Methods of Compliance (AMOCs)

(o)(1) The Manager, Atlanta Aircraft Certification Office (ACO), FAA, has the authority to approve AMOCs for this AD, if requested using the procedures found in 14 CFR 39.19. Send information to ATTN: Neil Duggan, Aerospace Engineer, Propulsion and Services Branch, ACE-118A, FAA, Atlanta ACO, 1701 Columbia Avenue, College Park, GA 30337; telephone (404) 474-5576; fax (404) 474-5606.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) AMOCs approved for AD 2008-20-01 are approved as AMOCs for this AD.

Issued in Renton, Washington, on December 27, 2010.
Jeffrey E. Duven,
Acting Manager, Transport Airplane Directorate, Aircraft Certification Service.

[FR Doc. 2010-33335 Filed 1-4-11; 8:45 am]

BILLING CODE 4910-13-P